COMMODITY FUTURES TRADING COMMISSION

SECURITIES AND EXCHANGE COMMISSION

[Release No. 34-63798; File No. 265-26]

Joint CFTC-SEC Advisory Committee on Emerging Regulatory Issues

AGENCY: Commodity Futures Trading Commission (“CFTC”) and Securities and Exchange Commission (“SEC”).

ACTION: Notice of Meeting of Joint CFTC-SEC Advisory Committee on Emerging Regulatory Issues.

SUMMARY: The Joint CFTC-SEC Advisory Committee on Emerging Regulatory Issues will hold a public meeting on February 18, 2011, from 9:30 a.m. to 12 p.m., at the CFTC's Washington, DC headquarters. At the meeting, the committee will discuss matters relating to its recommendations regarding the market events of May 6, 2010, and other matters relating to the on-going work of the committee.

DATES: The meeting will be held on February 18, 2011 from 9:30 a.m. to 12 p.m. Members of the public who wish to submit written statements in connection with the meeting should submit them by February 17, 2011.

ADDRESSES: The meeting will take place in the first floor hearing room at the CFTC's headquarters, Three Lafayette Centre, 1155 21st Street, NW., Washington, DC 20581.

Written statements may be submitted to either the CFTC or the SEC; all submissions will be reviewed jointly by the two agencies. Please use the title “Joint CFTC-SEC Advisory Committee” in any written statement you may submit. Statements may be submitted to any of the addresses listed below. Please submit your statement to only one address.

E-mail

Jointcommittee@cftc.gov or rule-comments@sec.gov. If e-mailing to this address, please refer to “File No. 265-26” on the subject line.

SEC's Internet Submission Form

http://www.sec.gov/rules/other.shtml.

Regular Mail

Commodity Futures Trading Commission, Three Lafayette Centre, 1155 21st Street, NW., Washington, DC 20581, attention Office of the Secretary

or

Elizabeth M. Murphy, Secretary, Securities and Exchange Commission, 100 F St., NE., Washington, DC 20549-1090. Comments mailed to this address should be submitted in triplicate and should refer to File No. 265-26.

Fax

(202) 418-5521.

Any statements submitted in connection with the committee meeting will be made available to the public.

FOR FURTHER INFORMATION CONTACT: Martin White, Committee Management Officer, at (202) 418-5129, Commodity Futures Trading Commission, Three Lafayette Centre, 1155 21st Street, NW., Washington, DC 20581; Ronesha Butler, Special Counsel, at (202) 551-5629, Division of Trading and Markets, Securities and Exchange Commission, 100 F St., NE., Washington, DC 20549-1090; or Elizabeth M. Murphy, Committee Management Officer, at (202) 551-5400, Securities and Exchange Commission, 100 F St., NE., Washington, DC 20549.

SUPPLEMENTARY INFORMATION:

The meeting will be webcast on the CFTC's Web site, http://www.cftc.gov. Members of the public also can listen to the meeting by telephone. The public access call-in numbers will be announced at a later date.

Authority: 5 U.S.C. app. 2 § 10(a)(2).

By the Commodity Futures Trading Commission.
Dated: January 31, 2011.
Martin White,
Committee Management Officer.
By the Securities and Exchange Commission.
Elizabeth M. Murphy,
Committee Management Officer.

[FR Doc. 2011-2424 Filed 2-2-11; 8:45 am]

BILLING CODE 6351-01-P; 8011-01-P